DEPARTMENT OF THE INTERIOR

National Park Service

[N6729; NPS-WASO-NAGPRA-NPS0041488; PPWOCRADN0-PCU00RP14.R50000]

Notice of Inventory Completion: David A. Fredrickson Archaeological Collections Facility at Sonoma State University, Rohnert Park, CA

AGENCY: National Park Service, Interior.

ACTION: Notice.

SUMMARY: In accordance with the Native American Graves Protection and Repatriation Act (NAGPRA), the Sonoma State University has completed an inventory of human remains and associated funerary objects and has determined that there is a cultural affiliation between the human remains and associated funerary objects and Indian Tribes or Native Hawaiian organizations in this notice.

DATES: Repatriation of the human remains and associated funerary objects in this notice may occur on or after January 20, 2026.

ADDRESSES: Send written requests for repatriation of the human remains and associated funerary objects in this notice to Kirsten Twork, Sonoma State University, 1801 East Cotati Avenue, Rohnert Park, CA 94928, email tworkk@sonoma.edu.

SUPPLEMENTARY INFORMATION: This notice is published as part of the National Park Service's administrative responsibilities under NAGPRA. The determinations in this notice are the sole responsibility of the Sonoma State University, and additional information on the determinations in this notice, including the results of consultation, can be found in the inventory or related records. The National Park Service is not responsible for the determinations in this notice.

Abstract of Information Available

Based on the information available, human remains representing, at least, one individual removed from CA-NAP-802 near the city of Napa, California, have been reasonably identified. A total of 425 lots of associated funerary objects are flaked stone tools and debitage, ground stone tools, faunal bone, botanical material, and shell. The collection has been housed at Sonoma State University since 1996, under the following Accession Number 96-13.

Based on the information available, one associated funerary object was removed from CA-NAP-261 near Napa, California. The cultural item is a flaked stone tool and debitage. This collection has been housed at Sonoma State University since 1976, under the following Accession Number 76-09.

Based on the information available, human remains representing, at least, one individual removed from CA-NAP-261 near Napa, California, have been reasonably identified. A total of 12,104 lots of associated funerary objects are flaked stone tools and debitage, ground stone tools, faunal bone, shell, baked clay, and botanical remains. In 1977 the site was subject to data recovery investigations as a mitigation for the implementation of the Napa River Flood Control Project. This collection has been housed at Sonoma State University since 1977, under the following Accession Number 77-14.

Based on the information available, human remains representing, at least, two individual removed from CA-NAP-261 near Napa, California, have been reasonably identified. A total of 13 lots of associated funerary objects are unmodified faunal bone, shell, and botanical remains. This collection has been housed at Sonoma State University since 1984, under the following Accession Number 84-01.

Based on the information available, human remains representing, at least, one individual was removed from CA-NAP-14 near Napa, California, have been reasonably identified. The 13,118 lots of associated funerary objects are flaked-stone tolls and debitage, groundstone, unmodified faunal bones, modified faunal bone, and shell beads. This collection has been housed at Sonoma State University since 1991, under the following Accession Number 91-04.

The Knoxville Region isolates were recorded as part of the Cultural Resources Study in the Knoxville Region study spanned 7600 acres across Lake, Napa and Yolo Counties, California. This study was conducted by the Anthropological Studies Center at the request of D'Appolonia Consulting Engineers, Inc. in April-July of 1981. The Yolo County isolates were found during intern verification work on the Napa County sites in accession number 81-06. All other Yolo County sites within the Knoxville Region have been repatriated to the Tribe as of January 2025. The eight lots of associated funerary objects are flaked-stone tolls and debitage and have been housed at Sonoma State University since 1981, under the following Accession Number 81-06.

Based on the information available 30 lots of associated funerary objects were removed from CA-NAP-751 and CA-NAP-752 located in American Canyon, California. Additional information on why the cultural items were removed from the site and brought to the university was not available. The items include modified obsidian, obsidian debitage, faunal bone, modified shell, and dietary shell. The items have been at Sonoma State University since 1988.

Based on the information available 441 lots of associated funerary objects were removed from CA-NAP-22, CA-NAP-782, CA-NAP-774, and CA-NAP-779 located in the city of Napa, California, in the vicinity of Suscol Creek. These cultural items were removed from the sites during a pre-construction archaeological investigation for Suscol Springs Vineyard Project by Pacific Legacy. The items include obsidian debitage, non-obsidian stone debitage, dietary shell, faunal bone, modified obsidian, modified non-obsidian stone, obsidian projectile point, and charcoal. The items have been at Sonoma State University since 1998.

Based on the information available 1,157 lots of associated funerary objects were removed from CA-NAP-1099H located in the city of Napa in California. These cultural items were removed from the sites during an archaeological investigation for the Napa Flood Control Project for ASM Affiliates Inc. The items include faunal bone, ground stone tools, and botanical samples. The items have been at Sonoma State University since 2012.

Based on the information available eight lots of associated funerary objects were removed from the American Canyon Pipeline project located in American Canyon, California. These cultural items were removed from the sites during an archaeological investigation for the project, additional information about the project was not available. The items include unmodified obsidian. The items have been at Sonoma State University since 1976.

Based on the information available 13 lots of associated funerary objects were removed from the Lillian Burns Sites located in the city of Napa, California. Information about why the items were removed from the site was not available. The items include modified obsidian, clay, non-obsidian modified stone, non-obsidian stone debitage. The items have been at Sonoma State University since 1977.

Based on the information available 17 lots of associated funerary objects were removed from the Franciscan Project located in the city of Napa, California. Information about why the items were removed from the site was not available. The items include modified obsidian, obsidian debitage, modified non-obsidian stone, and non-obsidian stone debitage. The items have been at Sonoma State University since 2000.

Based on the information available four lots of associated funerary objects were removed from the CA-NAP-334 and CA-NAP-335 located near Knoxville, California in the vicinity of the Zim Zim Creek. The cultural items were removed during the Zim Zim Creek Survey conducted by the Anthropological Studies Center. The items include obsidian projectile point, modified non-obsidian stone, and ground stone tools. The items have been at Sonoma State University since 1974.

Based on the information available 123 lots of associated funerary objects were removed from CA-NAP-492, CA-NAP-493, CA-NAP-603, CA-NAP-604, CA-NAP-606, CA-NAP-608, CA-NAP-609H, CA-NAP-616H, and CA-NAP-617 located near Knoxville, California. The cultural items were removed as part of the Cultural Resources Study in the Knoxville Region conducted by the Anthropological Studies Center at the request of D'Appolonia Consulting Engineers Inc. The items include obsidian debitage, modified obsidian, non-obisidian debitage, and modified non-obsidian stone. The items have been at Sonoma State University since 1981.

Based on the information available 194 lots of associated funerary objects were removed from CA-NAP-491, CA-NAP-492, CA-NAP-493, CA-NAP-604, CA-NAP-609H, CA-NAP-612, CA-NAP-614, CA-NAP-615,CA-NAP-617, and CA-NAP-627 located near Knoxville, California. The cultural items were removed as part of the Test Excavation portion of the Cultural Resources Study in the Knoxville Region conducted by the Anthropological Studies Center at the request of D'Appolonia Consulting Engineers Inc. The items include obsidian debitage, modified obsidian, non-obisidian debitage, and modified non-obsidian stone. The items have been at Sonoma State University since 1982.

Based on the information available 55 lots of associated funerary objects were removed from CA-NAP-911 located near the city of Napa in Napa county, California. The cultural items were removed as part of the NAPLT Light Testing Project. The items include obsidian debitage and modified obsidian. The items have been at Sonoma State University since 1998.

Based on the information available 153 lots of associated funerary objects were removed from CA-NAP-471, CA-NAP-889, CA-NAP-891, CA-NAP-892, and CA-NAP-893/H located near Weeks Lake near Walters Springs in Napa county, California. The cultural items were removed during a cultural resource project by Origer and Associates. The items include obsidian debitage, modified obsidian, non-obisidian debitage, and modified non-obsidian stone. The items have been at Sonoma State University since 1995.

Based on the information available one lot of associated funerary objects were removed from CA-NAP-411 located near the city of Napa in Napa county, California. The cultural items were removed during a cultural resource project by Origer and Associates. The items include obsidian debitage. The items have been at Sonoma State University since 1999.

Based on the information available 358 lots of associated funerary objects were removed from CA-NAP-265 located near the city of Napa in Napa county, California. The cultural items were removed during a cultural resource project by Origer and Associates. The items include obsidian debitage, modified obsidian, non-obisidian debitage, modified non-obsidian stone, unmodified faunal bone, and ground stone tools. The items have been at Sonoma State University since 1993.

Based on the information available seven lots of associated funerary objects were removed from CA-NAP-536 and CA-NAP-540 located near Lake Berryessa in Napa county, California. The cultural items were removed during a cultural resource was surveyed on 1/6/79 by A. Bramelette as part of the Benflaffke Survey of Lake Berryessa. The items include flaked stone debitage. The items have been at Sonoma State University since 1979.

Based on the information available two lots of associated funerary objects were removed from CA-NAP-897 located at the DUC housing site in American Canyon in Napa county, California. The cultural items were removed during a cultural resource project by Origer and Associates. The items include flaked stone debitage. The items have been at Sonoma State University since 2001.

Based on the information available two lots of associated funerary objects were removed from CA-NAP-853 near Lake Marie in Napa county, California. The cultural items were removed during a survey in June 1993 and were entered into collections by J. Rosenthal as part of the Green Valley Ranch/Tuteur Ranch Surveys The items include obsidian projectile points. The items have been at Sonoma State University since 1993.

Based on the information available 282 lots of associated funerary objects were removed from CA-NAP-801 near the city of Napa, California. The cultural items were removed during an archaeological survey affiliated with Tom Origer and Associates. More information as to why the cultural items were removed was not located. The cultural items include obsidian debitage, modified obsidian, unmodified shell, and ground stone tools. The items have been at Sonoma State University since 1992.

In the case of missing cultural items, any additional items when located will also be repatriated from the collections discussed above. Based on records concerning the human remains, associated funerary objects and the institution in which they are housed, there is no evidence of the ancestors or items being treated with hazardous substances.

Cultural Affiliation

Based on the information available and the results of consultation, cultural affiliation is reasonably identified by the geographical location or acquisition history of the human remains and associated funerary objects described in this notice.

Determinations

The Sonoma State University has determined that:

• The human remains described in this notice represent the physical remains of five individuals of Native American ancestry.

• The 28,516 lots of associated funerary objects described in this notice are reasonably believed to have been placed intentionally with or near individual human remains at the time of death or later as part of the death rite or ceremony.

• There is a reasonable connection between the human remains and associated funerary objects described in this notice and the Cachil Dehe Band of Wintun Indians of the Colusa Indian Community of the Colusa Rancheria, California; Kletsel Dehe Wintun Nation of the Cortina Rancheria (previously listed as Kletsel Dehe Band of Wintun Indians); and the Yocha Dehe Wintun Nation, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 20, 2026. If competing requests for repatriation are received, the Sonoma State University must determine the most appropriate requestor prior to repatriation. Requests for joint repatriation of the human remains and associated funerary objects are considered a single request and not competing requests. The Sonoma State University is responsible for sending a copy of this notice to the Indian Tribes and Native Hawaiian organizations identified in this notice.

Authority: Native American Graves Protection and Repatriation Act, 25 U.S.C. 3003, and the implementing regulations, 43 CFR 10.10.

Dated: December 2, 2025.
Melanie O'Brien,
Manager, National NAGPRA Program.

[FR Doc. 2025-23182 Filed 12-17-25; 8:45 am]

BILLING CODE 4312-52-P